DEPARTMENT OF LABOR

Mine Safety and Health Administration

30 CFR 57, 70, 72, and 75

[Docket No. MSHA-2014-0031]

RIN 1219-AB86

Exposure of Underground Miners to Diesel Exhaust

Correction

In proposed rule document 2016-13219 appearing on pages 36826-36831 in the issue of Wednesday, June 8, 2016, make the following correction:

1. On page 36826, in the third column, in the DATES section, “September 1, 2016” should read “September 6, 2016”.

[FR Doc. C1-2016-13219 Filed 6-16-16; 8:45 am]

BILLING CODE 1505-01-D